DEPARTMENT OF COMMERCE

International Trade Administration

[A-570-912]

Certain New Pneumatic Off-the-Road Tires From the People's Republic of China: Notice of Second Extension of Time Limit for the Final Results of the 2009-2010 Administrative Review of the Antidumping Duty Order

AGENCY: Import Administration, International Trade Administration, Department of Commerce.

DATES: Effective Date: February 22, 2012.

FOR FURTHER INFORMATION CONTACT: Raquel Silva, AD/CVD Operations, Import Administration, International Trade Administration, U.S. Department of Commerce, 14th Street and Constitution Avenue NW., Washington, DC 20230, telephone: (202) 482-6475.

SUPPLEMENTARY INFORMATION:

Background

On October 28, 2010, the Department of Commerce (“Department”) initiated the administrative review of the antidumping duty order on certain new pneumatic off-the-road tires (“off-the-road tires”) from the People's Republic of China (“PRC”) for the period, September 1, 2009, through August 31, 2010. See Initiation of Antidumping and Countervailing Duty Administrative Reviews, 75 FR 66349 (October 28, 2010). On October 7, 2011, the Department published its preliminary results of the administrative review of the antidumping order on off-the-road tires from the PRC. See Certain New Pneumatic Off-the-Road Tires from the People's Republic of China: Preliminary Results of the 2009—2010 Antidumping Duty Administrative Review and Intent to Rescind, in Part, 76 FR 62356 (October 7, 2011). On February 8, 2012, the Department extended the time limit for the final results by 14 days to February 18, 2012. See Certain New Pneumatic Off-the-Road Tires from the People's Republic of China: Notice of Extension of Time Limit for the Final Results of the 2009-2010 Administrative Review of the Antidumping Duty Order, 77 FR 6536 (February 8, 2012).

Extension of Time Limit for Final Results

Section 751(a)(3)(A) of the Tariff Act of 1930, as amended (“the Act”), requires the Department to issue the final results in an administrative review within 120 days after the date on which the preliminary results are published. However, if it is not practicable to complete the review within this time period, section 751(a)(3)(A) of the Act allows the Department to extend the time period to a maximum of 180 days.

We determine that it is not practicable to complete the final results of this review within the current deadline because the Department continues to require additional time to analyze issues raised in recent surrogate value submissions, case briefs, and rebuttals. Therefore, in accordance with section 751(a)(3)(A) of the Act, we are extending the time limit for completion of the final results of this administrative review by 14 additional days, until March 3, 2012. However, because March 3, 2012, falls on a weekend, the final results are now due no later than March 5, 2012. See Notice of Clarification: Application of “Next Business Day” Rule for Administrative Determination Deadlines Pursuant to the Tariff Act of 1930, As Amended, 70 FR 24533 (May 10, 2005).

This notice is published pursuant to sections 751(a) and 777(i) of the Act.

Dated: February 15, 2012.
Christian Marsh,
Deputy Assistant Secretary for Antidumping and Countervailing Duty Operations.

[FR Doc. 2012-4125 Filed 2-21-12; 8:45 am]

BILLING CODE 3510-DS-P